DEPARTMENT OF LABOR

Employment and Training Administration

[TA-W-59,168]

Amended Certification Regarding Eligibility To Apply for Worker Adjustment Assistance and Alternative Trade Adjustment Assistance; Joan Fabrics Corporation Including Workers Who's Wages Were Paid By Accuforce Staffing Service; Siler City, North Carolina

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on April 25, 2006, applicable to workers of Joan Fabrics Corporation, Siler City, North Carolina. The notice was published in the Federal Register on May 11, 2006 (71 FR 27519).

At the request of a company official, the Department reviewed the certification for workers of the subject firm. The workers were engaged in the production of upholstery, wall panel and tie lining fabrics.

New information shows that following a change in ownership, some workers of the Siler City, North Carolina location of the subject firm will become employees of AccuForce Staffing Service.

Workers separated from employment at the Siler City, North Carolina location of the subject firm had their wages reported under a separate unemployment insurance (UI) tax account for AccuForce Staffing Service.

Accordingly, the Department is amending the certification to properly reflect this matter.

The intent of the Department's certification is to include all workers of Joan Fabrics Corporation, including workers who's wages were paid by AccuForce Staffing Service, Siler City, North Carolina who were adversely affected by a shift in production to Mexico.

The amended notice applicable to TA-W-59,168 is hereby issued as follows:

“All workers of Joan Fabrics Corporation, including workers who's wages were paid by AccuForce Staffing Service, Siler City, North Carolina, who became totally or partially separated from employment on or after April 5, 2005, through April 25, 2008, are eligible to apply for adjustment assistance under Section 223 of the Trade Act of 1974, and are also eligible to apply for alternative trade adjustment assistance under Section 246 of the Trade Act of 1974.”

Signed at Washington, DC, this 26th day of July 2007.
Elliott S. Kushner,
Certifying Officer, Division of Trade Adjustment Assistance.

[FR Doc. E7-14995 Filed 8-1-07; 8:45 am]

BILLING CODE 4510-FN-P